DEPARTMENT OF TRANSPORTATION

Federal Aviation Administration

14 CFR Part 71

[Docket No. FAA-2005-22111; Airspace Docket No. 05-AAL-14]

Revision of Class E Airspace; Koyuk Alfred Adams, AK

AGENCY: Federal Aviation Administration (FAA), DOT.

ACTION: Final rule.

SUMMARY: This action modifies Class E airspace at Koyuk, AK to provide adequate controlled airspace to contain aircraft executing one new Standard Instrument Approach Procedure (SIAP) and two new SIAPs. This rule results in revised Class E airspace upward from 1,200 ft. above the surface at the Koyuk Alfred Adams Airport, Koyuk, AK.

EFFECTIVE DATE: 0901 UTC, April 13, 2006.

FOR FURTHER INFORMATION CONTACT: Gary Rolf, AAL-538G, Federal Aviation Administration, 222 West 7th Avenue, Box 14, Anchorage, AK 99513-7587; telephone number (907) 271-5898; fax: (907) 271-2850; e-mail: gary.ctr.rolf@faa.gov. Internet address: http://www.alaska.faa.gov/at.

SUPPLEMENTARY INFORMATION:

History

On Thursday, November 17, 2005, the FAA proposed to amend part 71 of the Federal Aviation Regulations (14 CFR part 71) to modify Class E airspace upward from 1,200 ft. above the surface at Koyuk, AK (70 FR 69713). The action was proposed in order to create Class E airspace sufficient in size to contain aircraft while executing one new and two revised SIAPs for the Koyuk Airport. The new approach is the Area Navigation (Global Positioning System) (RNAV (GPS)) Runway (RWY) 01, original. The two revised approaches are: (1) Non Directional Beacon (NDB) Distance Measuring Equipment (DME) RWY 01, amendment 1, (2) NDB RWY 01, amendment 1. Class E controlled airspace extending upward from 1,200 ft. above the surface in the Koyuk Airport area is modified by this action. Additionally, one small area of Class G airspace surrounded by Class E airspace is being converted to Class E airspace. The airspace is thus simplified in this area, reducing possible confusion. The NPRM also simply listed this action taking place at Koyuk Airport. The more correct designation is Koyuk Alfred Adams and updates in this rule have been made accordingly. Interested parties were invited to participate in this rulemaking proceeding by submitting written comments on the proposal to the FAA. No public comments have been received; thus the rule is adopted as proposed.

The area will be depicted on aeronautical charts for pilot reference. The coordinates for this airspace docket are based on North American Datum 83. The Class E airspace areas designated as 700/1,200 ft. transition areas are published in paragraph 6005 of FAA Order 7400.9N, Airspace Designations and Reporting Points, dated September 1, 2005, and effective September 15, 2005, which is incorporated by reference in 14 CFR 71.1. The Class E airspace designation listed in this document will be published subsequently in the Order.

The Rule

This amendment to 14 CFR part 71 modifies Class E airspace at Koyuk, Alaska. This Class E airspace is modified to accommodate aircraft executing one new SIAP, and two revised SIAPs and will be depicted on aeronautical charts for pilot reference. The intended effect of this rule is to provide adequate controlled airspace for Instrument Flight Rule (IFR) operations at Koyuk Alfred Adams Airport, Koyuk, Alaska.

The FAA has determined that this regulation only involves an established body of technical regulations for which frequent and routine amendments are necessary to keep them operationally current. It, therefore: (1) Is not a “significant regulatory action” under Executive Order 12866; (2) is not a “significant rule” under DOT Regulatory Policies and Procedures (44 FR 11034; February 26, 1979); and (3) does not warrant preparation of a regulatory evaluation as the anticipated impact is so minimal. Since this a routine matter that will only affect air traffic procedures and air navigation, it is certified that this rule will not have a significant economic impact on a substantial number of small entities under the criteria of the Regulatory Flexibility Act.

The FAA's authority to issue rules regarding aviation safety is found in Title 49 of the United States Code. Subtitle 1, section 106 describes the authority of the FAA Administrator. Subtitle VII, Aviation Programs, describes in more detail the scope of the agency's authority.

This rulemaking is promulgated under the authority described in subtitle VII, part A, subpart 1, section 40103, Sovereignty and use of airspace. Under that section, the FAA is charged with prescribing regulations to ensure the safe and efficient use of the navigable airspace. This regulation is within the scope of that authority because it creates Class E airspace sufficient in size to contain aircraft executing instrument procedures for the Koyuk Alfred Adams Airport and represents the FAA's continuing effort to safely and efficiently use the navigable airspace.

List of Subjects in 14 CFR Part 71

Airspace, Incorporation by reference, Navigation (air).

Adoption of the Amendment

In consideration of the foregoing, the Federal Aviation Administration amends 14 CFR part 71 as follows:

PART 71—DESIGNATION OF CLASS A, CLASS B, CLASS C, CLASS D, AND CLASS E AIRSPACE AREAS; AIRWAYS; ROUTES; AND REPORTING POINTS

1. The authority citation for 14 CFR part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of Federal Aviation Administration Order 7400.9N, Airspace Designations and Reporting Points, dated September 1, 2005, and effective September 15, 2005, is amended as follows:

* * * * *

Paragraph 6005 Class E airspace extending upward from 700 feet or more above the surface of the earth.

* * * * *

AAL AK E5 Koyuk Alfred Adams, AK [Revised]

Koyuk Alfred Adams Airport, AK

(Lat. 64°56′22″ N., long. 161°09′15″ W.)

Koyuk NDB, AK

(Lat. 64°55′55″ N., long. 161°08′52″ W.)

Norton Bay NDB, AK

(Lat. 64°41′46″ N., long. 162°03′47″ W.)

That airspace extending upward from 700 feet above the surface within a 9-mile radius of the Koyuk Airport and 4 miles west and 8 miles east of the Koyuk NDB 210° bearing extending from the 9-mile radius to 17 miles southwest of the airport; and that airspace extending upward from 1,200 feet above the surface within 5 miles west and 11 miles east of the Koyuk NDB 210° bearing extending from the NDB to 30 miles southwest of the NDB and 4.5 miles either side of the line between the Norton Bay NDB and the Koyuk NDB, and the area within 20 miles of the Koyuk Airport extending clockwise from the Koyuk NDB 140° bearing to the 187° bearing, and the area within 25 miles of the Koyuk Airport extending clockwise from the Koyuk NDB 220° bearing to the 230° bearing.

* * * * *

Issued in Anchorage, AK, on January 13, 2006.
Anthony M. Wylie,
Manager, Safety, Area Flight Service Operations.

[FR Doc. 06-600 Filed 1-23-06; 8:45 am]

BILLING CODE 4910-13-P